DEPARTMENT OF DEFENSE

Office of the Secretary

[Docket ID: DoD-2022-OS-0092]

Proposed Collection; Comment Request

AGENCY: Chief Information Officer (CIO), Department of Defense (DoD).

ACTION: 60-Day information collection notice.

SUMMARY: In compliance with the Paperwork Reduction Act of 1995, the Office of the DoD CIO announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by October 3, 2022.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, Regulatory Directorate, 4800 Mark Center Drive, Attn: Mailbox 24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Director of Defense Industrial Base Cybersecurity Program and Director of DoD CIO Cybersecurity Policy and Partnerships, ATTN: Kevin Dulany, Washington, DC 20301, or call: 703-604-3167.

SUPPLEMENTARY INFORMATION:

Title; Associated Form; and OMB Number: DoD's Defense Industrial Base Cybersecurity Program Point of Contact Information; OMB Control Number 0704-0490.

Needs and Uses: DoD's Defense Industrial Base (DIB) Cyber Security (CS) Program enhances and supports DoD's capabilities to safeguard information that resides on, or transits, DIB unclassified information systems. The DIB CS Program is focused on sharing cyber threat information and cybersecurity best practices with DIB CS participants. This collection is necessary for DoD to collect, share, and manage point of contact (POC) information for program administration and management purposes. The Government will collect typical business POC information from all DIB CS participants during the application process to join the program. This information includes company name and identifiers such as cage code and mailing address, employee names and titles, corporate email addresses, and corporate telephone numbers of company-identified POCs. DIB CS Program POCs include the Chief Executive Officer, Chief Information Officer, Chief Information Security Officer, and Corporate or Facility Security Officer, or their equivalents, as well as those administrative, policy, technical staff, and personnel designated to interact with the Government in executing the DIB CS Program. After joining the program, DIB CS participants provide updated POC information to DoD when personnel changes occur.

Affected Public: Businesses or other for-profit; Not-for-profit Institutions.

Annual Burden Hours: 24,200.

Number of Respondents: 24,200.

Responses per Respondent: 1.

Annual Responses: 24,200.

Average Burden per Response: 1 hour.

Frequency: As required.

Dated: July 28, 2022.
Kayyonne T. Marston,
Alternate OSD Federal Register Liaison Officer, Department of Defense.

[FR Doc. 2022-16519 Filed 8-1-22; 8:45 am]

BILLING CODE 5001-06-P